DEPARTMENT OF LABOR

Employment and Training Administration

[TA-W-53,778]

Park-Ohio, Inc., Geneva Rubber Division, Geneva, OH; Notice of Negative Determination Regarding Application for Reconsideration

By application of January 31, 2004, the United Steelworkers of America, Local Union 905L requested administrative reconsideration of the Department's negative determination regarding eligibility for workers and former workers of the subject firm to apply for Trade Adjustment Assistance (TAA). The denial notice was signed on January 12, 2004, and published in the Federal Register on February 6, 2004 (69 FR 5866).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Park-Ohio, Inc., Geneva Rubber Division, Geneva, Ohio engaged in the production of conduits and grommets, was denied because criterion (2) was not met. Companywide sales and production of conduits and grommets increased in 2002 compared to 2001 and further increased in January-November 2003 compared to the same period in 2002. In addition, Park-Ohio, Inc. shifted production of conduits and grommets from the subject facility to another domestic location.

In the request for reconsideration, the union alleged that sales and production at the subject facility could not have increased in 2003, because production in Geneva, Ohio was terminated in June of 2003.

It was determined during the original investigation that Park-Ohio, Inc., Geneva Rubber Division, Geneva, Ohio did indeed stop its production in June of 2003. However, all production from this facility was transferred to a new facility in Cleveland, Ohio. The company official was requested to provide companywide sales and production figures for injection rubber molded products which combined both Geneva and Cleveland facilities. Analysis of this data determined that sales and production at Park-Ohio, Inc. increased during the relevant period.

The union official also alleges that Park-Ohio, Inc. did not shift production from the subject facility domestically, but is shifting it to China and Mexico.

Upon further review of the original investigation and petitioner's correspondence it was revealed that the same union representative who signed a request for reconsideration, also filed the petition for TAA. In the letter attached with the original petition, the union representative states that “* * * Park-Ohio Industries illegally moved our work to another facility in Cleveland * * *”, which contradicts the petitioner's later allegations that there was no domestic shift in production. Furthermore, the Department received several statements from the company official of Park-Ohio, Inc. that confirm all production of conduits and grommets was shifted from the subject facility to a new facility in Cleveland, Ohio.

Conclusion

After review of the application and investigative findings, I conclude that there has been no error or misinterpretation of the law or of the facts which would justify reconsideration of the Department of Labor's prior decision. Accordingly, the application is denied.

Signed in Washington, DC, this 26th day of March, 2004.
Linda G. Poole,
Certifying Officer, Division of Trade Adjustment Assistance.

[FR Doc. E4-861 Filed 4-15-04; 8:45 am]

BILLING CODE 4510-13-P